DEPARTMENT OF COMMERCE

International Trade Administration

[A-570-863]

Notice of Correction to the Final Results of the Third Administrative Review of Honey from the People's Republic of China

AGENCY: Import Administration, International Trade Administration, Department of Commerce.

EFFECTIVE DATE: July 19, 2006.

FOR FURTHER INFORMATION CONTACT: Kristina Boughton or Bobby Wong, AD/CVD Operations, Office 9, Import Administration, International Trade Administration, U.S. Department of Commerce, 14th Street and Constitution Avenue, NW, Washington, DC 20230; telephone: (202) 482-8173 or (202) 482-0409, respectively.

SUPPLEMENTARY INFORMATION:

Correction

On June 16, 2006, the Department of Commerce (the Department) published the final results of the third administrative review of the antidumping duty order on honey from the People's Republic of China (PRC). Honey from the People's Republic of China: Final Results and Final Rescission of Antidumping Duty Administrative Review, 71 FR 34893 (June 16, 2006) (Final Results). While the Department did not receive any timely allegations of ministerial errors in the Final Results,¹ the Department inadvertently stated an incorrect cash deposit rate for the PRC-wide entity in the “Cash Deposits” section of the notice. The “Cash Deposits” section of the notice incorrectly listed the PRC-wide rate at 183.80 percent. See Final Results, 71 FR at 34895. As explained in the “Changes Since the Preliminary Results” section of the notice, the Department changed the cash deposit rate for the PRC-wide entity from 183.80 percent to 212.39 percent. The Department also indicated in the “Final Results of the Review” section of the notice that the PRC-wide rate was 212.39 percent. Therefore, the Department is correcting item (3) in the “Cash Deposits” section as follows: (3) for all other PRC exporters of subject merchandise which have not been found to be entitled to a separate rate (including Dubao and Eurasia), the cash-deposit rate will be the PRC-wide rate of 212.39 percent.

¹ The Department received ministerial error allegations from Anhui Honghui Foodstuff (Group) Co., Ltd. (Anhui Honghui), and Zhejiang Native Produce & Animal By-Product Import & Export Group (Zhejiang), which was untimely and subsequently rejected by the Department. See letter from Carrie Blozy to Anhui Honghui and Zhejiang (June 23, 2006).

This notice is to serve as a correction to the cash deposit rate listed for the PRC-wide entity in the “Cash Deposits” section.

This correction is issued and published in accordance with section 751(h) of the Tariff Act of 1930, as amended.

Dated: July 13, 2006.
David M. Spooner,
Assistant Secretary for Import Administration.

[FR Doc. E6-11456 Filed 7-18-06; 8:45 am]

BILLING CODE 3510-DS-S